NUCLEAR REGULATORY COMMISSION

DOCKET NO. 50-289

Amergen Energy Company, LLC; Three Mile Island Nuclear Station, Unit 1, Environmental Assessment and Finding of No Significant Impact

The U.S. Nuclear Regulatory Commission (NRC) is considering issuance of an amendment to Facility Operating License No. DPR-50, issued to AmerGen Energy Company, LLC, (the licensee), for operation of the Three Mile Island Nuclear Station, Unit 1 (TMI-1), located in Dauphin County, PA.

Environmental Assessment

Identification of the Proposed Action

The proposed action would modify the operating license to delete an already completed license condition on reporting of aircraft movement; and delete reference to specific amendment and revision numbers for the Final Safety Analysis Report, Environmental Report, Modified Amended Physical Security Plan, Security Personnel Training and Qualification Plan, and Safeguards Contingency Plan and refer instead to the Updated Final Safety Analysis Report (UFSAR), and refer to the other documents “as revised.” Two minor grammatical errors are also corrected. The proposed action also modifies the basis for the Technical Specification (TS) related to pressurizer code safety valves, to delete reference to the flow rate through the valve. The licensee is also adding to the Bases for this TS, information related to the required American Society for Mechanical Engineers Code, Section XI, required testing. The proposed action to delete reference in the operating license to a specific amendment number for the FSAR and Environmental Report and to correct minor grammatical errors requires an Environmental Assessment.

The proposed action is in accordance with the licensee's application for amendment dated May 13, 1999.

The Need for the Proposed Action

The proposed action is requested to provide administrative updating of the license requirements to delete outdated revisions to documents and refer instead to non-time-sensitive versions of these documents to avoid the need for future revisions to the related license condition.

Environmental Impacts of the Proposed Action

The NRC has completed its evaluation of the proposed action and concluded that the proposed changes are administrative in nature. The proposed action will not significantly increase the probability or consequences of accidents, no changes are being made in the types of any effluents that may be released off site, and there is no significant increase in occupational or public radiation exposure. Therefore, there are no significant radiological environmental impacts associated with the proposed action.

With regard to potential nonradiological impacts, the proposed action does not involve any historic sites. It does not affect nonradiological plant effluents and has no other environmental impact. Therefore, there are no significant nonradiological environmental impacts associated with the proposed action.

Accordingly, the NRC concludes that there are no significant environmental impacts associated with the proposed action.

Alternatives to the Proposed Action

As an alternative to the proposed action, the staff considered denial of the proposed action (i.e., the “no-action” alternative). Denial of the application would leave uncorrected grammatical errors and outdated references to documents in the license condition, the latter which may be misleading as to the current revision or may require updating of the license periodically to accurately reflect revisions to the documents referenced in the license condition without a specific benefit.

Alternative Use of Resources

This action does not involve the use of any resources not previously considered in the Final Environmental Statement for the Three Mile Island Nuclear Station, Unit 1.

Agencies and Persons Consulted

In accordance with its stated policy, on February 17, 2000, the staff consulted with the Pennsylvania State official, Mr. Stan Maingi of the Pennsylvania Bureau of Radiation Protection, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated May 13, 1999, which is available for public inspection at the Commission's Public Document Room, The Gelman Building, 2120 L Street, NW., Washington, DC. Publicly available records will be accessible electronically from the ADAMS Public Library component on the NRC Web site, http:\\www.nrc.gov (the Electronic Reading Room).

Dated at Rockville, Maryland, this 7th day of March 2000.
For the Nuclear Regulatory Commission.
Timothy G. Colburn, Sr.,
Project Manager, Section 1, Project Directorate I, Division of Licensing Project Management, Office of Nuclear Reactor Regulation.

[FR Doc. 00-6041 Filed 3-10-00; 8:45 am]

BILLING CODE 7590-01-P